DEPARTMENT OF TRANSPORTATION

Federal Aviation Administration

14 CFR Part 71

[Airspace Docket No. 01-AWP-1]

Establishment of a Class E Enroute Domestic Airspace Area, El Centro, CA

AGENCY: Federal Aviation Administration (FAA), DOT.

ACTION: Final rule; delay of effective date.

SUMMARY: This document delays the effective date of a direct final rule which establishes a Class E enroute domestic airspace area beginning at 1,200 feet above ground level (AGL) in the vicinity of El Centro, CA and replaces existing Class G uncontrolled airspace within Restricted Area 2510A (R2510A), the Kane West Military Operating Area (MOA), and Kane East MOA.

EFFECTIVE DATE: The effective date of the direct final rule published on February 26, 2001 (66 FR 11531) is delayed until 0901 UTC July 12, 2001.

ADDRESSES: The official docket may be examined in the Office of the Assistant Chief Counsel, Western-Pacific Region, Federal Aviation Administration, Room 6007, 15000 Aviation Boulevard, Lawndale, California 90261.

An informal docket may also be examined during normal business hours at the Office of the Manager, Airspace Branch, Air Traffic Division at the above address.

FOR FURTHER INFORMATION CONTACT: Debra Trindle, Air Traffic Division, Airspace Specialist, AWP-520.10, Western-Pacific Region, Federal Aviation Administration, 15000 Aviation Boulevard, Lawndale, California 90261, telephone (310) 725-6613.

SUPPLEMENTARY INFORMATION: On February 26, 2001, the FAA published in the Federal Register a direct final rule; request for comments, which established a Class E enroute domestic airspace area beginning at 1,200 feet above ground level in the vicinity of El Centro, CA (FR Document 01-4680, 66 FR 11531, Airspace Docket No. 01-AWP-1). Please note that when accessing this document it was published incorrectly by the Federal Register as 00-AWP-1. The FAA uses the direct final rulemaking procedure for a non-controversial rule where the FAA believes that there will be no adverse public comment. This direct final rule advised the public that no adverse comments were anticipated, and that unless a written adverse comment, or a written notice of intent to submit such an adverse comment, were received within the comment period, the regulation would become effective on June 15, 2001. No adverse comments were received; therefore this document confirms that this direct final rule will become effective, but on a delayed date of July 12, 2001. The delay in the effective date is so the change will be in conjunction with established aeronautical charting cycles.

Issued in Los Angeles, California, on April 4, 2001.
Leonard A. Mobley,
Acting Manager, Air Traffic Division, Western-Pacific Region.

[FR Doc. 01-10841 Filed 4-30-01; 8:45 am]

BILLING CODE 4910-13-M